DEPARTMENT OF LABOR

Office of the Secretary

Submission for OMB Review: Comment Request

February 23, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King at 202-693-4129 (this is not a toll-free number)/e-mail: DOL_PRA_PUBLIC@dol.gov.

Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Occupational Code Assignment (OCA).

OMB Control Number: 1205-0137.

Agency Form Number: ETA-741.

Affected Public: State, Local, or Tribal Governments.

Total Estimated Number of Respondents: 23.

Total Estimated Annual Burden Hours: 12.

Total Estimated Annual Costs Burden (does not include hour costs): $0.

Description: The Form ETA 741, the Occupational Code Assignment (OCA), is provided as a public service for the states as well as for others who use occupational information. The OCA process is designed to help users relate an occupational specialty or a job title or to an occupational code within the framework of the O*NET-SOC (Occupational Information Network-Standard Occupational Classification) system. For additional information, see related notice published in the Federal Register on November 11, 2009 (74 Fed. Reg. 62602).

Agency: Employment and Training Administration.

Type of Review: Extension without change of a currently approved collection.

Title of Collection: Worker Profiling and Reemployment Services Activities and Worker Profiling and Reemployment Outcomes.

OMB Control Number: 1205-0353.

Agency Form Numbers: ETA-9048 and ETA-9049.

Affected Public: State, Local, or Tribal Governments.

Total Estimated Number of Respondents: 53.

Total Estimated Annual Burden Hours: 106.

Total Estimated Annual Costs Burden (does not include hour costs): $0.

Description: The Secretary has interpreted applicable sections of Federal law to require States to identify claimants who are most likely to exhaust their Unemployment Insurance benefits and to provide reemployment services to expedite their return to suitable work. The ETA 9048 report provides a count of the claimants who were referred to Worker Profiling and Reemployment Services (WPRS) and a count of those who completed the services. A second report (ETA 9049) provides the subsequent collection of wage records which is a useful management tool for monitoring the success of the WPRS program in the State. For additional information, see related notice published in the Federal Register on December 16, 2009 (74 FR 66679).

Darrin A. King,
Departmental Clearance Officer.

[FR Doc. 2010-4016 Filed 2-25-10; 8:45 am]

BILLING CODE 4510-FW-P